FEDERAL RETIREMENT THRIFT INVESTMENT

Sunshine Act Meetings

TIME AND DATE: June 24, 2019, 8:30 a.m.

PLACE: 77 K Street NE, 10th Floor, Washington, DC 20002.

STATUS: Parts of these meetings will be closed and parts of these meetings will be closed.

MATTERS TO BE CONSIDERED:

Portions Open to the Public

1. Approval of the May 29, 2019 Board Meeting Minutes

2. Monthly Reports

(a) Participant Activity Report

(b) Investment Performance

(c) Legislative Report

3. Quarterly Reports

(d) Vendor Risk Management

4. Enterprise Risk Management Update

5. Internal Auditor Update

6. Audit Remediation Review

7. OI Annual Report

8. Withdrawal Project Update

Portions Closed to the Public

Information covered under 5 U.S.C. 552b (c)(4) and (c)(9)(B).

CONTACT PERSON FOR MORE INFORMATION: Kimberly Weaver, Director, Office of External Affairs, (202) 942-1640.

Dated: June 17, 2019.
Megan Grumbine,
General Counsel, Federal Retirement Thrift Investment Board.

[FR Doc. 2019-13150 Filed 6-18-19; 11:15 am]

BILLING CODE 6760-01-P